DEPARTMENT OF AGRICULTURE

Agricultural Marketing Service

[Doc. No. LS-02-16]

Notice of Request for Emergency Approval of a New Information Collection

AGENCY: Agricultural Marketing Service, USDA.

ACTION: Notice and request for comment.

SUMMARY: In accordance with the Paperwork Reduction Act of 1995 (44 U.S.C. chapter 35), this notice announces that the Agricultural Marketing Service is requesting emergency approval from the Office of Management and Budget for the new information collection, “Interim Voluntary Country of Origin Labeling of Beef, Lamb, Pork, Fish, Perishable Agricultural Commodities, and Peanuts Under the Agricultural Marketing Act of 1946.”

DATES: Comments must be received by January 21, 2003, to be considered.

ADDRESSES: Send written comments to: (1) Country of Origin Labeling Program, Agricultural Marketing Service, USDA STOP 0249, Room 2092-S, 1400 Independence Avenue, SW., Washington, DC 20250-0249, or fax to (202) 720-3499 or send by E-mail to cool@usda.gov; (2) Office of Management and Budget, New Executive Office Building, 725 17th Street, NW., Room 725, Washington, DC 20503, Attention: Desk Officer; and to (3) Clearance Officer, USDA-OCIO, Room 404-W, Jamie L. Whitten Building, STOP 7602, 1400 Independence Avenue, SW., Washington, DC 20250-7602.

All comments will become a matter of public record. Comments will be available for public inspection from the Agricultural Marketing Service (AMS) at the above address and over the Agency's Web site at: http://www.ams.usda.gov/cool/.

FOR FURTHER INFORMATION CONTACT: Eric Forman, Associate Deputy Administrator, Fruit and Vegetable Programs, AMS, USDA, at: eric.forman@usda.gov, or William Sessions, Associate Deputy Administrator, Livestock and Seed Program, AMS, USDA, at: william.sessions@usda.gov.

SUPPLEMENTARY INFORMATION: Title: Interim Voluntary Country of Origin Labeling of Beef, Lamb, Pork, Fish, Perishable Agricultural Commodities, and Peanuts Under the Authority of the Agricultural Marketing Act of 1946.

OMB Number: 0581-XXXX.

Type of Request: New Collection.

Abstract: Section 10816 of the Farm Security and Rural Investment Act of 2002 (Pub. L. 107-171) amended the Agricultural Marketing Act of 1946 (7 U.S.C. 1621 et seq.) to require the Department of Agriculture (USDA) to issue country of origin labeling guidelines for use by retailers who wish to notify their customers voluntarily of the country of origin of beef (including veal), lamb, pork, fish, perishable agricultural commodities, and peanuts. These guidelines for the interim voluntary country of origin labeling of beef, lamb, pork, fish, perishable agricultural commodities, and peanuts were published in the September 11, 2002, Federal Register (67 FR 63367). Public Law 107-171 also requires the Secretary to promulgate requirements for mandatory labeling by September 30, 2004. It is the intent of the Agency that these guidelines, and experience gained through their voluntary adoption by the industry, will serve as the basis of the requirements that will be developed to implement the mandatory labeling program.

The voluntary guidelines prescribe minimum requirements for a recordkeeping system and refer to the enforcement provisions that will be a part of the mandatory program. Recordkeeping is essential to the integrity of any country of origin labeling program, whether it be a voluntary program or a mandatory program. Recordkeeping creates a paper trail that is a critical element in carrying out any internal reviews of a system conducted by industry representatives under a voluntary program or in enforcement audits that will be necessary for the Agency to conduct under the mandatory program. Additionally, the establishment of minimum recordkeeping requirements for the voluntary program serves the industry by providing a basis for the evaluation of compliance with the guidelines, for administering the program, for management decisions and planning, and for establishing the cost of the program. In addition, under the mandatory program, it supports administrative and regulatory actions the Agency may have to take in response to findings of noncompliance.

In general, under the voluntary program, the information collected will be used by industry personnel. It will be created, maintained, and/or submitted by producers, importers, handlers, and retailers. Additionally, it will necessitate that all of these entities have recordkeeping procedures in place.

The burden on each industry sector is discussed below. One major estimate made about each entity is the number of entities likely to participate in this voluntary program. Because the Agency has no basis to determine the level of participation in this program, it has estimated that all industry members that could be affected by the mandatory program will participate in the voluntary program. In estimating the burden hours associated with the recordkeeping requirements imposed on each industry sector, AMS drew upon its experience with the oversight of auditable and verifiable origin-based documented marketing programs already administered by the Agency.

Producers (commercial farms, ranches, and fishermen). USDA estimates that there are approximately 2 million commercial farms, ranches, and fishermen in the United States. Although a number of these farms, ranches, and fishermen may not produce products that are covered by these guidelines, or sell to outlets that would require their suppliers to adopt these guidelines, this analysis assumes that all of these farms, ranches, and fishermen will implement a system for the voluntary labeling of the country of origin for the products these farms, ranches, and fishermen produce. AMS estimates that the time required for a producer to develop a recordkeeping system that would meet the requirements of these guidelines to be 1 day. AMS estimates that the ongoing time required generating and maintaining the required records to be approximately 1 hour per month. Although AMS recognizes that many large-scale producers, such as large cattle feedlots, will require substantial more time than these estimates, AMS believes that the overall averages presented here to be accurate. For the purposes of this program, AMS also estimates the hourly rate, or value of time for a producer to be $25 per hour.

Accordingly, AMS estimates that the total burden for producers to develop a recordkeeping system that would comply with these guidelines to be 2 million producers × $25 per hour × 8 hours, or $400 million. In addition, AMS estimates that the total annual burden for producers to generate and maintain the records required to comply with these voluntary guidelines to be 2 million producers × $25 per hour × 12 hours, or $600 million. Therefore, the total potential burden of this program on producers in the first year could be $400 million + $600 million, or $1 billion.

Food Handlers (including packers, processors, importers, wholesalers, and distributors): AMS estimates that there are 100,000 food handlers. Although a number of these food handlers may not process or handle products that are covered by these guidelines or sell to outlets that would require their suppliers to adopt these guidelines, this analysis assumes that all of these food handlers will implement a system for the voluntary labeling of the country of origin for the products they process or handle. AMS estimates that the time required for a food handler to develop a recordkeeping system that would meet the requirements of these guidelines to be 2 days. AMS estimates that the ongoing time required generating and maintaining the required records to be approximately 1 hour per week. Although AMS recognizes that many large facilities, such as large-scale meatpackers, will require substantially more time than these estimates, AMS believes that the overall averages presented here to be accurate. For the purposes of this program, AMS also estimates the hourly rate, or value of time for a food handler to be $50 per hour.

Accordingly, AMS estimates that the total burden for food handlers to develop a recordkeeping system that would comply with these guidelines to be 100,000 food handlers x $50 per hour x 16 hours, or $80 million. In addition, AMS estimates that the total annual burden for food handlers to generate and maintain the records required to comply with these voluntary guidelines to be 100,000 food handlers x $50 per hour x 52 hours, or $260 million. Therefore, the total potential burden of this program on food handlers in the first year could be $80 million + $260 million, or $340 million.

Retailers: There are currently approximately 31,000 Perishable Agricultural Commodities Act licensee outlets that would be considered retailers and covered by these voluntary guidelines. Although a number of these retailers may choose not to adopt these guidelines, this analysis assumes that all of these retailers will implement a system for the voluntary labeling of the country of origin for the products they sell. AMS estimates that the time required for a retailer to develop a recordkeeping system that would meet the requirements of these guidelines to be 5 days. AMS estimates that the ongoing time required generating and maintaining the required records to be approximately 1 hour per day. Although AMS recognizes that many large retailers, such as supermarkets, will require substantially more time than these estimates, AMS believes that the overall averages presented here to be accurate. For the purposes of this program, AMS also estimates the hourly rate, or value of time for the employee of a retailer to be $50 per hour and that a retailer will work 7 days a week.

Accordingly, AMS estimates that the total burden for retailers to develop a recordkeeping system that would comply with these guidelines to be 31,000 retailers x $50 per hour x 40 hours, or $62 million. In addition, AMS estimates that the total annual burden for retailers to generate and maintain the records required to comply with these voluntary guidelines to be 31,000 retailers x $50 per hour x 365 hours, or $565.75 million. Therefore, the total potential burden of this program on retailers in the first year could be $62 million + $565.75 million, or $627.75 million.

Annual Reporting and Recordkeeping Burden for the First Year:

Estimated Number of Respondents: 2,131,000.

Total Annual Hours: 59,355,000.

Total Cost: $1,967,750,000.

Comments. Comments are requested on these recordkeeping requirements. Comments are specifically invited on: (1) Whether the recordkeeping is necessary for the proper operation of this voluntary program, including whether the information would have practical utility; (2) the accuracy of USDA's estimate of the burden of the recordkeeping requirements, including the validity of the methodology and assumptions used; (3) ways to enhance the quality, utility, and clarity of the records to be maintained; and (4) ways to minimize the burden of the recordkeeping on those who are to maintain and/or make the records available, including the use of appropriate automated, electronic, mechanical, or other technological recordkeeping techniques or other forms of information technology.

Dated: November 14, 2002.
A.J. Yates,
Administrator, Agricultural Marketing Service.

[FR Doc. 02-29602 Filed 11-20-02; 8:45 am]

BILLING CODE 3410-02-P